DEPARTMENT OF AGRICULTURE

Office of the Secretary

Notice of Solicitation of Nominations for Members of the Foundation for Food and Agriculture Research

AGENCY: Research, Education, Economics, USDA.

ACTION: Solicitation of nominations for membership.

SUMMARY: In accordance with Sec. 7601 of Pub. L. 113-79, the United States Department of Agriculture announces solicitation for nominations to fill 15 vacancies on the Foundation for Food and Agricultural Research. Seven (7) representatives are to be selected from lists of candidates provided by industry, and eight (8) representatives are to be selected from a list of candidates provided by the National Academy of Sciences. The National Academy of Sciences will be soliciting nominations through a separate process. The Agricultural Act of 2014 can be found at: http://www.gpo.gov/fdsys/pkg/BILLS-113hr2642enr/pdf/BILLS-113hr2642enr.pdf.

DATES: Deadline for Foundation board member nominations is April 28, 2014 by 5:00 p.m. Eastern Time.

ADDRESSES: Congressional Affairs, Research, Education, and Economics, Room 214-W, Whitten Building, United States Department of Agriculture, 1400 Independence Ave. SW., Washington, DC 20250-0321, fax number 202-260-8786, email FFAR@usda.gov.

FOR FURTHER INFORMATION CONTACT: Ven Neralla; Director of Congressional Affairs; Research, Education, and Economics; United States. Department of Agriculture, 1400 Independence Ave. SW.; Room 214-W, Whitten Building; Washington, DC 20250; Telephone: 202-260-8208, email: ven.neralla@usda.gov.

SUPPLEMENTARY INFORMATION: Section 7601 of the Agricultural Act of 2014 (Pub. L. 113-79) created a new Foundation for Food and Agriculture Research:

(1) To advance the research mission of the Department by supporting agricultural research activities focused on addressing key problems of national and international significance including—(A) plant health, production, and plant products; (B) animal health, production, and products; (C) food safety, nutrition, and health; (D) renewable energy, natural resources, and the environment; (E) agricultural and food security; (F) agriculture systems and technology; and (G) agriculture economics and rural communities; and (2) to foster collaboration with agricultural researchers from the Federal Government, State (as defined in section 1404 of the National Agricultural Research, Extension, and Teaching Policy Act of 1977 (7 U.S.C. 3103)) governments, institutions of higher education (as defined in section 101 of the Higher Education Act of 1965 (20 U.S.C, 1001)), industry, and nonprofit organizations. In general, the Foundation shall: (A) Award grants to, or enter into contracts, memoranda of understanding, or cooperative agreements with, scientists and entities, which may include agricultural research agencies in the Department, university consortia, public-private partnerships, institutions of higher education, nonprofit organizations, and industry, to efficiently and effectively advance the goals and priorities of the Foundation; (B) in consultation with the Secretary—(i) identify existing and proposed Federal intramural and extramural research and development programs relating to the purposes of the Foundation described in subsection (c); and (ii) coordinate Foundation activities with those programs so as to minimize duplication of existing efforts and to avoid conflicts; (C) identify unmet and emerging agricultural research needs after reviewing the roadmap for agricultural research, education, and extension authorized by section 7504 of the Food, Conservation, and Energy Act of 2008 (7 U.S.C. 7614a); (D) facilitate technology transfer and release of information and data gathered from the activities of the Foundation to the agricultural research community; (E) promote and encourage the development of the next generation of agricultural research scientists; and (F) carry out such other activities as the Board determines to be consistent with the purposes of the Foundation.

Nominations are being solicited from organizations, associations, societies, councils, federations, groups, and companies that represent a wide variety of food and agricultural interests throughout the country, and that can fulfill the requirement of industry provided lists of candidates. The nominees are not required to be in industry, but must be nominated by someone in industry.

Criteria for Board Membership

The Board of Directors will be composed of the following:

• 8 representatives selected from a list of candidates provided by the National Academy of Sciences.

• 7 representatives selected from lists of candidates provided by industry.

The Foundation's Board will be responsible for governing the organization and ensuring it succeeds in its mission. To that end the Board members will oversee the mission and operation of the Foundation, including: Approving programs and monitoring their effectiveness, coordinating Foundation activities with federal research programs, awarding grants, and ensuring financial solvency and raising resources.

The initial Board is to be appointed by the ex-officio board members designated in the statute. 3 The ex-officio members are: The Secretary of Agriculture, the Under Secretary of Agriculture for Research, Education, and Economics, the Administrator of the Agricultural Research Service, the Director of the National Institute of Food and Agriculture, and the Director of the National Science Foundation.

Process and Criteria for Nominations

The nominator should submit a name and contact information for each nominee. All nominees will be vetted before selection. Nominations are open to all individuals without regard to race, color, religion, sex, national origin, age, mental or physical handicap, marital status, or sexual orientation.

Done at Washington, DC, this 31st day of March 2014.
Catherine E. Woteki,
Under Secretary for Research, Education and Economics.

[FR Doc. 2014-07574 Filed 4-3-14; 8:45 am]

BILLING CODE 3410-22-P